DEPARTMENT OF COMMERCE

International Trade Administration

[A-580-870]

Notice of Commencement of a Compliance Proceeding Pursuant to Section 129 of the Uruguay Round Agreements Act

AGENCY: Enforcement and Compliance, International Trade Administration, Department of Commerce.

DATES: Applicable November 23, 2018.

SUMMARY: The Department of Commerce (Commerce) is commencing a proceeding to gather information, analyze record evidence, and consider the determinations which would be necessary to bring its measures into conformity with the recommendations and rulings of the Dispute Settlement Body (DSB) of the World Trade Organization (WTO) in United States—Antidumping Measures on Certain Oil Country Tubular Goods from Korea (WTO/DS488). This dispute concerns the final determination issued in the antidumping duty (AD) investigation of certain oil country tubular goods (OCTG) from the Republic of Korea (Korea).

FOR FURTHER INFORMATION CONTACT: Erin Kearney, AD/CVD Operations Office VI, Enforcement and Compliance, International Trade Administration, U.S. Department of Commerce, 1401 Constitution Avenue NW, Washington, DC 20230; telephone: (202) 482-0167.

SUPPLEMENTARY INFORMATION:

Background

On February 9, 2018, the United States informed the DSB that the United States intends to implement the DSB's recommendations and rulings in WTO/DS488, pursuant to section 129 of the Uruguay Round Agreements Act (URAA), 19 U.S.C. 3538. The AD investigation at issue is:

Case No. | Full title | FR cite/publication date
A-580-870 | Certain Oil Country Tubular Goods from the Republic of Korea: Final Determination of Sales at Less Than Fair Value and Negative Final Determination of Critical Circumstances | 79 FR 41983 (July 18, 2014).

Commencement of Section 129 Proceeding

In accordance with section 129(b)(1) of the URAA, Commerce consulted with the Office of the United States Trade Representative, and on November 7, 2018, pursuant to those consultations, opened a segment in the AD investigation at issue to commence administrative action to comply with the DSB's recommendations and rulings. The segment will consist of a separate administrative record with its own administrative protective order. In accordance with 19 CFR 351.305(b), interested parties may request access to business proprietary information in this segment of the proceeding in which they are participating. For this Section 129 segment, we may request additional information and we may conduct verification of such information. Consistent with section 129(d) of the URAA, Commerce intends to make a preliminary determination in this Section 129 segment, intends to provide interested parties with an opportunity to provide written comments on the preliminary determination, and may hold a hearing.

Filing Requirements & Letter of Appearance

In accordance with Commerce's regulations, all submissions to Commerce must be filed electronically using Enforcement and Compliance's Antidumping and Countervailing Duty Centralized Electronic Service System (ACCESS). An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.¹

¹ See, generally, 19 CFR 351.303 (for general filing requirements).

Pursuant to 19 CFR 351.103(d)(l), to be included on the public service list for the Section 129 determination for the aforementioned proceeding, all interested parties, including parties that were part of the public service list in the underlying investigation and any parties otherwise notified of Commerce's commencement of this Section 129 proceeding, must file a letter of appearance. The letter of appearance must be filed separately from any other document (with the exception of an application for administrative protective order (APO) access; parties applying for and granted APO access would automatically be on the public service list). Parties wishing to enter an appearance or submit information with regard to this proceeding must upload their filing(s) to each relevant case number. Additionally, for each submission made in ACCESS, parties must select “S 129-SEC 129” as the segment and enter “DS488” in the segment specific information field.

Submission of Factual Information

Unless notified otherwise, the administrative record is closed for submitting new factual information. At this time, Commerce does not intend to seek new factual information in addition to information already on the record of the investigation. If Commerce determines that additional factual information is necessary, it will notify the parties.

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). The regulation requires any party, when submitting factual information, to specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties should review the regulations prior to submitting factual information in this segment.

Extension of Time Limits Regulation

Parties may request an extension of time limits before the expiration of a time limit established under Part 351, or as otherwise specified by the Secretary. In general, an extension request will be considered untimely if it is filed after the expiration of the time limit established under Part 351 expires. For submissions that are due from multiple parties simultaneously, an extension request will be considered untimely if it is filed after 10:00 a.m. Eastern Time on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm prior to submitting factual information in this segment.

Certification Requirements

Any party submitting factual information in an AD or countervailing duty (CVD) proceeding must certify to the accuracy and completeness of that information.² Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³ Commerce intends to reject factual submissions if the submitting party does not comply with the applicable revised certification requirements.

² See section 782(b) of the Act.

³ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in this proceeding should ensure that they meet the requirements of these procedures (e.g., the filing of letters of appearance as discussed at 19 CFR 351.103(d)).

This notice is published in accordance with section 129(b)(1) of the URAA.

Dated: November 15, 2018.
Gary Taverman,
Deputy Assistant Secretary for Antidumping and Countervailing Duty Operations, performing the non-exclusive functions and duties of the Assistant Secretary for Enforcement and Compliance.

[FR Doc. 2018-25384 Filed 11-21-18; 8:45 am]

BILLING CODE 3510-DS-P